DEPARTMENT OF ENERGY

Federal Energy Regulatory Commission

Woods Lake Hydro Company, CO, Project No. 3410-009; Notice of Availability of Environmental Assessment

October 29, 2002.

In accordance with the National Environmental Policy Act of 1969 and the Federal Energy Regulatory Commission's (Commission) regulations, 18 CFR part 380 (Order No. 486, 52 FR 47897), the Office of Energy Projects has reviewed the application for a new license for the Woods Lake Hydro Company Hydroelectric Project, and has prepared an Environmental Assessment (EA). The operating project is located on Lime Creek, a tributary to the Frying Pan River, in Eagle County, Colorado. The project occupies about 2.73 acres of land within the White River National Forest, administered by the Forest Service.

The EA contains the staff's analysis of the potential environmental impacts of the project and concludes that licensing the project, with appropriate environmental protective measures, would not constitute a major federal action that would significantly affect the quality of the human environment.

A copy of the EA is available for review at the Commission in the Public Reference Room or may be viewed on the Commission's website at http://www.ferc.gov using the “FERRIS” link. Enter the docket number excluding the last three digits in the docket number field to access the document. For assistance, call 1-866-208-3676 or for TTY, (202) 502-8659.

For further information, contact Gaylord Hoisington at (202) 502-6032.

Magalie R. Salas,
Secretary.

[FR Doc. 02-28103 Filed 11-1-02; 8:45 am]

BILLING CODE 6717-01-P